DEPARTMENT OF LABOR

Mine Safety and Health Administration

30 CFR Part 18

RIN 1219-AB60

Conveyor Belt Combustion Toxicity and Smoke Density

AGENCY: Mine Safety and Health Administration (MSHA), Labor.

ACTION: Request for information.

SUMMARY: MSHA is requesting information from the public on smoke density and combustion toxicity tests that may be used to evaluate the fire hazard of conveyor belting and similar materials used in underground coal mines.

DATES: All comments must be received by midnight eastern standard time on August 18, 2008.

ADDRESSES: Comments: Comments must be clearly identified with “RIN 1219-AB60” and may be sent to MSHA by any of the following methods:

(1) Federal Rulemaking Portal: http://www.regulations.gov. Follow the instructions for submitting comments.

(2) Electronic mail: zzMSHA-Comments@dol.gov. Include “RIN 1219-AB60” in the subject line of the message.

(3) Facsimile: (202) 693-9441. Include “RIN 1219-AB60” in the subject.

(4) Regular Mail: MSHA, Office of Standards, Regulations, and Variances, 1100 Wilson Blvd., Room 2350, Arlington, Virginia 22209-3939.

(5) Hand Delivery or Courier: MSHA, Office of Standards, Regulations, and Variances, 1100 Wilson Blvd., Room 2350, Arlington, Virginia 22209-3939. Sign in at the receptionist's desk on the 21st floor.

Comments can be accessed electronically at http://www.msha.gov under the “Rules and Regs” link. MSHA will post all comments on the Internet without change, including any personal information provided. Comments may also be reviewed at the Office of Standards, Regulations, and Variances, 1100 Wilson Blvd., Room 2350, Arlington, Virginia. Sign in at the receptionist's desk on the 21st floor.

MSHA maintains a listserve that enables subscribers to receive e-mail notification when rulemaking documents are published in the Federal Register. To subscribe to the listserve, go to http://www.msha.gov/subscriptions/subscribe.aspx.

FOR FURTHER INFORMATION CONTACT: Patricia W. Silvey, Director, Office of Standards, Regulations, and Variances, MSHA, 1100 Wilson Blvd, Room 2350, Arlington, Virginia 22209-3939, silvey.patricia@dol.gov (e-mail), (202) 693-9440 (voice), or (202) 693-9441 (Fax).

SUPPLEMENTARY INFORMATION:

I. Introduction

Under section 11 of the Mine Improvement and New Emergency Response (MINER) Act of 2006, the Secretary of Labor established the Technical Study Panel on the Utilization of Belt Air and the Composition and Fire Retardant Properties of Belt Materials in Underground Coal Mining (Panel) to conduct an independent scientific engineering review and to make recommendations with respect to the utilization of belt air and flame retardant properties of belt materials for use in underground coal mines. The Panel issued its final report on December 20, 2007. In a separate rulemaking published in today's Federal Register, MSHA is proposing to revise its approval test in existing regulations on flame-resistant conveyor belts for use in underground coal mines in accordance with section 101 of the Mine Act.

During the Technical Study Panel meeting in March, 2007, the Panel received information on hazards associated from the combustion products of burning conveyor belt. This information is related to combustion toxicity and smoke density generated from burning conveyor belt material. Those presenting the information to the Panel did not provide data on specific hazards or specific tests used to measure combustion toxicity and smoke density. Consequently, MSHA is requesting information on the tests, hazard evaluation studies and the application of data and methods for assessing the smoke density and toxic potency of smoke and other products produced from the combustion of conveyor belts and similar materials.

II. Information Request

MSHA is specifically soliciting information on:

1. Tests and related technical information including:

—The test method;

—The material or materials that the test is designed for;

—The advantages and disadvantages of the test;

—Research reports, technical studies and hazard assessment methods, incident reports involving the health and safety effects of smoke and combustion products on persons, conclusions, and technical opinions; and

—Costs of materials, labor, and the apparatus or equipment for conducting the tests.

2. Test methods used by international governmental agencies and other organizations (i.e., Australia, the European Economic Union) for smoke density or toxicity potency of smoke and other products produced from the of combustion of conveyor belting or similar materials. Please include:

—The health and safety benefits associated with compliance with the test methods and other requirements;

—The associated costs of compliance.

3. Requirements, standards and test methods for fire safety relating to smoke density and toxicity for materials such as electric cables where the test or information could be used to evaluate smoke density or the toxic potency of smoke and other products produced from combustion of conveyor belting or similar materials. MSHA is particularly interested in standards by private standard setting organizations such as the International Standards Organization and the National Fire Protection Association; and the States of California and New York. Please exclude information on materials that would not be relevant to underground coal mining, such as fabrics, wall board and surface coverings. Please report compliance experience with the requirements, test methods or standards.

4. Scientific studies, data, and test methods on new technologies and materials with respect to halogenated materials and halogen-free materials that pertain to reducing the smoke producing properties and combustion toxicity of such materials.

5. New technologies and materials that result in reduced smoke and toxic products of combustion that would be relevant to conveyor belts and related materials for use in underground coal mines.

6. If such materials are commercially available and could be used in underground coal mines, what is the difference in cost and performance between conventional materials and these new materials?

Dated: June 11, 2008.
Richard E. Stickler,
Acting Assistant Secretary for Mine Safety and Health.

[FR Doc. E8-13633 Filed 6-18-08; 8:45 am]

BILLING CODE 4510-43-P